TENNESSEE VALLEY AUTHORITY

Sunshine Act Meetings

TIME AND DATE: 9:30 a.m. CT on February 10, 2022.

PLACE: Knicely Conference Center, 2355 Nashville Road, Bowling Green, Kentucky.

STATUS: Open.

MATTERS TO BE CONSIDERED:

Meeting No. 22-01

The TVA Board of Directors will hold a public meeting on February 10, 2022, at the Knicely Conference Center, 2355 Nashville Road, Bowling Green, Kentucky, on the campus of Western Kentucky University. The meeting will be called to order at 9:30 a.m. CT to consider the agenda items listed below. TVA management will answer questions from the news media following the Board meeting.

On February 9, at the Knicely Conference Center, the public may comment on any agenda item or subject at a board-hosted public listening session which begins at 2 p.m. CT and will last until 4 p.m. Preregistration is required to address the Board.

Agenda

1. Approval of minutes of the November 10, 2021 Board Meeting

2. Report of the Audit, Finance, Risk, and Cybersecurity Committee

3. Report of the People and Governance Committee

A. Real Property Board Practice

B. Updating Capital Projects Approvals Board Practice

4. Report of the External Stakeholders and Regulation Committee

A. Federal Advisory Committees Charter Renewals

B. Authorization for Economic Development Contracts and Programs

5. Report of the Operations and Nuclear Oversight Committee

6. Information Items

A. Advanced Reactor Program

B. Board Less-Than-Quorum

C. Severe Weather Response

D. New Johnsonville Aeroderivative Project Amendment

7. Report from President and CEO

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: February 3, 2022.
Edward C. Meade,
Agency Liaison.

[FR Doc. 2022-02712 Filed 2-4-22; 4:15 pm]

BILLING CODE 8120-08-P